DEPARTMENT OF STATE

[Public Notice 4403]

FY 2004 Refugee Admissions Program Notice of Meeting

There will be a meeting on the President's FY 2004 Refugee Admissions Program on Wednesday, July 30, 2003, from approximately 2 p.m. to 5 p.m. The meeting will be held at the Refugee Processing Center, 1401 Wilson Boulevard, Suite 700, Arlington, Virginia. The meeting's purpose is to hear the views of attendees on the appropriate size and scope of the FY 2004 Refugee Admissions Program.

Seating is limited. Persons wishing to attend this meeting must notify the Bureau of Population, Refugees, and Admissions at (202) 663-1056 by 5 p.m. (EDT) Wednesday, July 23, 2003, to arrange for admission. Persons wishing to present oral comments at the open portion of the meeting, or to submit written comments for the Committee's consideration, must provide them in writing by 5 p.m. (EDT), July 23, 2003. All comments may be faxed to (703) 907-7284.

Information about the Refugee Admissions Program may be found at http://www.state.gov/g/prm/.

Dated: July 10, 2003.
Arthur E. Dewey,
Assistant Secretary, Bureau of Population, Refugees, and Migration, Department of State.

[FR Doc. 03-18277 Filed 7-17-03; 8:45 am]

BILLING CODE 4710-33-P